DEPARTMENT OF ENERGY

Federal Energy Regulatory Commission

[Project No. 8315-015]

Eagle Creek Sartell Hydro, LLC; Notice of Intent to File License Application, Filing of Pre-Application Document, and Approving Use of the Traditional Licensing Process

a. Type of Filing: Notice of Intent to File License Application and Request to Use the Traditional Licensing Process.

b. Project No.: 8315-015.

c. Date Filed: February 27, 2020.

d. Submitted By: Eagle Creek Sartell Hydro, LLC (Eagle Creek).

e. Name of Project: Sartell Hydroelectric Project.

f. Location: On the Mississippi River in Stearns and Benton Counties, Minnesota. No federal lands are located within the project boundary.

g. Filed Pursuant to: 18 CFR 5.3 of the Commission's regulations.

h. Potential Applicant Contact: Michael Scarzello, Regulatory Director, Eagle Creek Sartell Hydro, LLC, 116 N. State Street, P.O. Box 167, Neshkoro, WI 54960; phone: (973) 998-8400.

i. FERC Contact: Michael Davis at (202) 502-8339; or email at Michael.Davis@ferc.gov.

j. Eagle Creek filed its request to use the Traditional Licensing Process on February 27, 2020. Eagle Creek provided public notice of its request on February 19, 2020. In a letter dated April 17, 2020, the Director of the Division of Hydropower Licensing approved Eagle Creek Sartell Hydro, LLC's request to use the Traditional Licensing Process.

k. With this notice, we are initiating informal consultation with the U.S. Fish and Wildlife Service under section 7 of the Endangered Species Act and the joint agency regulations thereunder at 50 CFR, Part 402. We are also initiating consultation the Minnesota State Historic Preservation Officer, as required by section 106, National Historical Preservation Act, and the implementing regulations of the Advisory Council on Historic Preservation at 36 CFR 800.2.

l. With this notice, we are designating Eagle Creek as the Commission's non-federal representative for carrying out informal consultation, pursuant to section 7 of the Endangered Species Act and section 106 of the National Historic Preservation Act.

m. Eagle Creek filed a Pre-Application Document (PAD; including a proposed process plan and schedule) with the Commission, pursuant to 18 CFR 5.6 of the Commission's regulations.

n. A copy of the PAD may be viewed and/or printed on the Commission's website (http://www.ferc.gov), using the eLibrary link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCONlineSupport@ferc.gov, (866) 208-3676 (toll free), or (202) 502-8659 (TTY).

o. The licensee states its unequivocal intent to submit an application for a new license for Project No. 8315. Pursuant to 18 CFR 16.8, 16.9, and 16.10 each application for a new license and any competing license applications must be filed with the Commission at least 24 months prior to the expiration of the existing license. All applications for license for this project must be filed by February 28, 2023.

p. Register online at http://www.ferc.gov/docs-filing/esubscription.asp to be notified via email of new filing and issuances related to this or other pending projects. For assistance, contact FERC Online Support.

Dated: April 17, 2020.
Kimberly D. Bose,
Secretary.

[FR Doc. 2020-08632 Filed 4-22-20; 8:45 am]

BILLING CODE 6717-01-P